DEPARTMENT OF COMMERCE

National Oceanic and Atmospheric Administration

RIN 0648-XA818

New England Fishery Management Council (NEFMC); Public Meeting

AGENCY: National Marine Fisheries Service (NMFS), National Oceanic and Atmospheric Administration (NOAA), Commerce.

ACTION: Notice; public meeting.

SUMMARY: The New England Fishery Management Council (Council) is scheduling a public meeting of its Research Steering Committee (Committee), in November, 2011, to consider actions affecting New England fisheries in the exclusive economic zone (EEZ). Recommendations from this group will be brought to the full Council for formal consideration and action, if appropriate.

DATES: The meeting will be held on Wednesday, November 30, 2011 at 9 a.m.

ADDRESSES: The meeting will be held at the Four Points Sheraton, 407 Squire Road, Revere, MA 02151, telephone: (781) 284-7200; fax: (781) 289-3176.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Research Steering Committee will meet to give an update on the NEFSC Northeast Cooperative Research Program and an update on NERO Cooperative research activities: response to NEFMC letter concerning scientific research catch; NEFMC request to approve the mid-size eliminator trawl; and other matters. The Committee will also review cooperative research projects final reports: “Use of kites in shrimp codends to reduce small shrimp and bycatch species,” (NEC)—Pingguo He UNH, Dan Schick, ME DMR; “Pulse: A cooperative partnership for pelagic ocean ecosystem monitoring in the Gulf of Maine,” (NEC)—Jeffrey A. Runge and Rebecca J. Jones; “Saco Bay Scallop Stock Enhancement Project,” (NEC)—Heather Deese-Riordan; “Activity and Distribution of Cod in the Ipswich Bay Spawning Area,” (NEC)—W.H. Howell, UNH; “Building on Promise: Continued investigation using a 4-seam bottom trawl to improve escapement of small haddock and cod,” Dana L. Morse, ME Sea Grant (NEC).

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: November 7, 2011.
Tracey L. Thompson,
Acting Director, Office of Sustainable Fisheries, National Marine Fisheries Service.

[FR Doc. 2011-29196 Filed 11-10-11; 8:45 am]

BILLING CODE 3510-22-P